INTERNATIONAL TRADE COMMISSION

[Investigation No. 731-TA-891 (Fourth Review)]

Foundry Coke From China; Determination

On the basis of the record ¹ developed in the subject five-year review, the United States International Trade Commission (“Commission”) determines, pursuant to the Tariff Act of 1930 (“the Act”), that revocation of the antidumping duty order on foundry coke from China would be likely to lead to continuation or recurrence of material injury to an industry in the United States within a reasonably foreseeable time.²

¹ The record is defined in § 207.2(f) of the Commission's Rules of Practice and Procedure (19 CFR 207.2(f)).

² Commissioner Randolph J. Stayin not participating.

Background

The Commission instituted this review on April 3, 2023 (88 FR 19674) and determined on July 7, 2023 that it would conduct an expedited review (88 FR 58617, August 28, 2023).

The Commission made this determination pursuant to section 751(c) of the Act (19 U.S.C. 1675(c)). It completed and filed its determination in this review on October 20, 2023. The views of the Commission are contained in USITC Publication 5468 (October 2023), entitled Foundry Coke from China: Investigation No. 731-TA-891 (Fourth Review).

By order of the Commission.
Issued: October 20, 2023.
Lisa Barton,
Secretary to the Commission.

[FR Doc. 2023-23601 Filed 10-24-23; 8:45 am]

BILLING CODE 7020-02-P